FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—09/24/2007
20072076 | UniCredito Italiano S.p.A | Capitalia S.p.A | Capitalia S.p.A.
20072122 | Explorer Pipeline Company | Petroleos de Venezuela S.A | Petroleos de Venezuela S.A.
20072129 | Abu Dhabi National Energy Company PJSC | Pioneer Natural Resources Company | Pioneer Natural Resources Canada Inc.
20072145 | Great Hill Equity Partners III, L.P | Mark Towfiq and Carol Nakahara | InteleNet Communications, Inc.
20072152 | Eugene M. Isenberg | Nabors Industries Ltd | Nabors Industries Ltd.
20072153 | Energy Transfer Partners, L.P | MSCP IV CRDI, LLC | Canyon Gas Resources, LLC
20072155 | Copano Energy, L.L.C | MSCP IV CRDI, LLC | Cantera Natural Gas, LLC
Transactions Granted Early Termination—09/25/2007
20072101 | Infineon Technologies AG | LSI Corporation | LSI Corporation
20072109 | Audax Private Equity Fund II, L.P | Bill D. Brady, as Trustee of the Bill D. Brady Trust | Brady Holdings, LLC
20072136 | S-Process Equipment International S.a.r.l | Schenck Process SA | Schenck Process Holding GmbH
20072156 | AEGON N.V | Merrill Lynch & Co., Inc | Merrill Lynch Life Insurance Company, ML Life Insurance Company of New York
20072160 | FleetCor Technologies, Inc | Chevron Corporation | Chevron U.S.A. Inc.
20072163 | J.P. Morgan Chase & Co | Sud Chemie AG | Sud Chemie AG
20072165 | NTR plc | Edgewater Growth Capital Partners, LP | Recycled Holdings Corporation
20072167 | Babcock & Brown Limited | Bill Sjolander | CMC Industries, Inc., CMC Railroad, Inc.
20072168 | Lydian Capital Partners LP | Trilogy Investors, LLC | Trilogy Investors, LLC
20072171 | Management Consulting Group PLC | Kurt Salmon Associates, Inc | Kurt Salmon Associates, Inc.
20072185 | Thermo Fisher Scientific Inc | Priority Air Holdings Corp | Priority Air Holdings Corp.
Transactions Granted Early Termination—09/26/2007
20071496 | Mylan Laboratories Inc | E. Merck oHG | EMD, Inc., Merck dura GmbH, Merck Genericos S.L., Merck Generics Belgium B.V.B.A., Merck Generics Group B.V.
20072098 | RF Micro Devices, Inc | Sirenza Microdevices, Inc | Sirenza Microdevices, Inc.
20072166 | Knoll, Inc | Mr. John Edelman | Teddy & Arthur Edelman, Limited
20072172 | Industrial Growth Partners III, L.P | Russell W. and Pamela C. Lane | Atlas Material Testing Technology, LLC
20072174 | New Mountain Lake Holdings, LLC | U.S. Express Enterprises, Inc | U.S. Xpress Enterprises, Inc.
20072188 | Gildan Activewear Inc | V.I. Prewett & Son, Inc. | V.I. Prewett & Son, Inc.
Transactions Granted Early Termination—09/27/2007
20070861 | FirstGroup plc | Laidlaw International, Inc | Laidlaw International, Inc.
20071415 | Maruha Group Inc | Nichiro Corporation | Nichiro Corporation
Transactions Granted Early Termination—09/28/2007
20072179 | BB&T Corporation | Collateral Holdings, Ltd | Collateral Management, LLC, Collateral Real Estate Capital, LLC
20072184 | Carlyle Europe Partners III, L.P | Sociedad General de Aguas de Barcelona, S.A. (“Abgar”) | APPLUS Servicios Technologicos, S.L.
20072186 | Iconix Brand Group, Inc | Official Pillowtex, LLC | Official Pillowtex, LLC
20072187 | Yahoo!, Inc | Zimbra, Inc | Zimbra, Inc.
20072190 | American Capital Strategies, Ltd | Wells Fargo & Company | Imperial Supplies LLC
20072195 | Warburg Pincus Private Equity IX, L.P | Integra Telecom, Inc. | Integra Telecom, Inc
20072198 | Pfingsten Executive QP Fund III, L.P | Tropitone Furniture Co., Inc | Tropitone Furniture Co., Inc.
20072201 | ABRY Partners V, L.P | EHR Holdings, LLC | Executive Health Resources, Inc.
20072204 | GSCP Sigma (Lux) S.a.r.l | Sajjan Kumar Agarwal | Gampak Products Corporation, Roemed Holdings, Inc., Semco Electric Private Limited, Sigma Electric Manufacturing Corporation, Ultratech Metals (India) Private Limited
20072205 | SECOM Co., LTD | Gordon Crane | Apple & Eve, LLC
20072208 | SECOM Co., LTD | Weston Presidio Capital III, LP | Apple & Eve, LLC
20072212 | Francois Pinault | United Retail Group, Inc. | United Retail Group, Inc

FOR FURTHER INFORMATION CONTACT: Sandra M. Peay, Contact Representative or Renee Hallman, Contact Representative.

Federal Trade Commission, Premerger Notification Office, Bureau of Competition, Room H-303, Washington, DC 20580, (202) 326-3100.

By direction of the Commission.
Donald S. Clark,
Secretary.

[FR Doc. 07-4969 Filed 10-9-07; 8:45 am]

BILLING CODE 6750-01-M